DEPARTMENT OF JUSTICE

Antitrust Division

Notice Pursuant to the National Cooperative Research and Production Act of 1993—Air Conditioning Contractors of America Educational Institute, Inc.

Notice is hereby given that, on September 16, 2004, pursuant to section 6(a) of the National Cooperative Research and Production Act of 1993, 15 U.S.C. 4301 et seq. (“the Act”), Air Conditioning Contractors of America Educational Institute, Inc. (“ACCA-EI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Air Conditioning Contractors of America Educational Institute, Inc., Arlington, VA. The nature and scope of ACCA-EI's standards development activities are: The development of standards that promote proper design, correct equipment selection and installation, energy efficient operation, proper maintenance and repair of heating, ventilating, air and system balance for optimal performance or operation of the HVACR systems. The goals of standards may include requirements for comfort and well being, design, equipment installation, and maintenance and repair and may include standards that promote optimum comfort, safe and efficient operation at minimal energy utilization, performance or operation or qualification of personnel.

Additional information concerning ACCA-EI can be obtained from Hilary P. Atkins, Executive Director of ACCA-EI, at (703) 824-8855.

Dorothy B. Fountain,
Deputy Director of Operations Antitrust Division.

[FR Doc. 04-24565 Filed 11-2-04; 8:45 am]

BILLING CODE 4410-11-M